DEPARTMENT OF ENERGY

Federal Energy Regulatory Commission

Combined Notice of Filings #1

Take notice that the Commission received the following electric corporate filings:

Docket Numbers: EC13-14-000.

Applicants: Prairie Rose Wind, LLC, Prairie Rose Transmission, LLC.

Description: Joint Application for Authorization under Section 203 of the Federal Power Act, Request for Expedited Consideration and Confidential Treatment of Prairie Rose Wind, LLC, et al.

Filed Date: 10/15/12.

Accession Number: 20121015-5203.

Comments Due: 5 p.m. ET 11/5/12.

Docket Numbers: EC13-15-000.

Applicants: Limon Wind, LLC, Limon Wind II, LLC.

Description: Limon Wind, LLC and Limon Wind II, LLC Application for Approval under Section 203 of the Federal Power Act and Request for Expedited Action.

Filed Date: 10/15/12.

Accession Number: 20121015-5207.

Comments Due: 5 p.m. ET 11/5/12.

Take notice that the Commission received the following electric rate filings:

Docket Numbers: ER13-63-000.

Applicants: Lockhart Power Company.

Description: Lockhart Power Company submits Order No. 1000 Compliance Filing.

Filed Date: 10/10/12.

Accession Number: 20121010-5109.

Comments Due: 5 p.m. ET 11/9/12.

Docket Numbers: ER13-73-000.

Applicants: Electric Energy Inc.

Description: Electric Energy Inc. submits Petition for Waiver of Requirements of Order No. 1000.

Filed Date: 10/10/12.

Accession Number: 20121010-5188.

Comments Due: 5 p.m. ET 11/9/12.

Docket Numbers: ER13-109-000; ER13-110-000; ER13-111-000.

Applicants: Peetz Logan Interconnect, LLC, Sagebrush, a California partnership, Sky River LLC.

Description: Peetz Logan Interconnect, LLC, Sagebrush, a California partnership and Sky River LLC's submits Petition for Waiver of Requirements of Order No. 1000.

Filed Date: 10/11/12.

Accession Number: 20121011-5215.

Comments Due: 5 p.m. ET 11/9/12.

Docket Numbers: ER13-121-000.

Applicants: ExxonMobil Baton Rouge Complex.

Description: Exxon Mobil Generators to be effective 10/16/2012.

Filed Date: 10/15/12.

Accession Number: 20121015-5005.

Comments Due: 5 p.m. ET 11/5/12.

Docket Numbers: ER13-122-000.

Applicants: ExxonMobil Beaumont Complex.

Description: Exxon Mobil Generators to be effective 10/16/2012.

Filed Date: 10/15/12.

Accession Number: 20121015-5006.

Comments Due: 5 p.m. ET 11/5/12.

Docket Numbers: ER13-123-000.

Applicants: ExxonMobil LaBarge Shute Creek Treating.

Description: Exxon Mobil Generators to be effective 10/16/2012.

Filed Date: 10/15/12.

Accession Number: 20121015-5009.

Comments Due: 5 p.m. ET 11/5/12.

Docket Numbers: ER13-124-000.

Applicants: PJM Interconnection,

Description: Original Service Agreement No. 3396; Queue No. V4-009 to be effective 9/14/2012.

Filed Date: 10/15/12.

Accession Number: 20121015-5053.

Comments Due: 5 p.m. ET 11/5/12.

Docket Numbers: ER13-125-000.

Applicants: Midwest Independent Transmission System Operator, Inc.

Description: SA 2468 Sugar Creek Substitute Original GIA to be effective 10/16/2012.

Filed Date: 10/15/12.

Accession Number: 20121015-5081.

Comments Due: 5 p.m. ET 11/5/12.

Docket Numbers: ER13-126-000.

Applicants: PJM Interconnection, L.L.C.

Description: Queue Position #T107—Original Service Agreement No. 3409 to be effective 10/10/2012.

Filed Date: 10/15/12.

Accession Number: 20121015-5095.

Comments Due: 5 p.m. ET 11/5/12.

Docket Numbers: ER13-128-000.

Applicants: Tampa Electric Company.

Description: Amendment to Rate Schedule 37 with Seminole Electric Cooperative to be effective 12/15/2012.

Filed Date: 10/15/12.

Accession Number: 20121015-5137.

Comments Due: 5 p.m. ET 11/5/12.

Docket Numbers: ER13-129-000.

Applicants: Noble Americas Energy Solutions LLC.

Description: Baseline MBR Tariff to be effective 10/16/2012.

Filed Date: 10/15/12.

Accession Number: 20121015-5138.

Comments Due: 5 p.m. ET 11/5/12.

Docket Numbers: ER13-130-000.

Applicants: ITC Midwest LLC.

Description: Filing of Executed Agreement In Compliance With ER12-1736-000 with Modification to be effective 7/10/2012.

Filed Date: 10/15/12.

Accession Number: 20121015-5143.

Comments Due: 5 p.m. ET 11/5/12.

Docket Numbers: ER13-131-000.

Applicants: Great Bay Energy IV, LLC.

Description: Application for MBR Authorization and Related Approvals to be effective 10/16/2012.

Filed Date: 10/15/12.

Accession Number: 20121015-5146.

Comments Due: 5 p.m. ET 11/5/12.

Take notice that the Commission received the following electric securities filings:

Docket Numbers: ES13-1-000.

Applicants: Oklahoma Gas and Electric Company.

Description: Application for authority to issue short-term debt securities of Oklahoma Gas and Electric Company.

Filed Date: 10/15/12.

Accession Number: 20121015-5167.

Comments Due: 5 p.m. ET 11/5/12.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 16, 2012.
Nathaniel J. Davis, Sr.,
Deputy Secretary.

[FR Doc. 2012-26110 Filed 10-23-12; 8:45 am]

BILLING CODE 6717-01-P